NATIONAL FOUNDATION ON THE ARTS AND THE HUMANITIES

National Endowment for the Humanities

45 CFR Part 1169

RIN 3136-AA18

Implementation of the Privacy Act of 1974

AGENCY: National Endowment for the Humanities, National Foundation on the Arts and the Humanities.

ACTION: Final rule; technical correction.

SUMMARY: On July 19, 2019, the National Endowment for the Humanities (NEH) published in a final rule implementing its agency-specific Privacy Act regulation. This document makes technical corrections to that rule.

DATES: Effective November 4, 2019.

FOR FURTHER INFORMATION CONTACT: Elizabeth Voyatzis, Deputy General Counsel, Office of the General Counsel, National Endowment for the Humanities, 400 Seventh Street SW, Room 4060, Washington, DC 20506; (202) 606-8322; gencounsel@neh.gov.

SUPPLEMENTARY INFORMATION: On July 19, 2019, NEH published a final rule at 84 FR 34788 implementing its agency-specific Privacy Act regulation. That rule amended 45 CFR chapter XI, subchapter D, by adding part 1169. When NEH added that part, the paragraphs within § 1169.8 were incorrectly designated because there were two paragraphs (b). This action corrects this error by redesignating the second paragraph (b) through paragraph (g) as paragraphs (c) through (h).

List of Subjects in 45 CFR Part 1169

Administrative practice and procedure, Privacy.

For the reasons set forth in the preamble, the National Endowment for the Humanities amends 45 CFR part 1169 as follows:

PART 1169—PRIVACY ACT REGULATIONS

1. The authority citation for part 1169 continues to read as follows:

Authority: 5 U.S.C. 552a(f).

§ 1169.8 [Amended]

2. Amend § 1169.8 by redesignating the second paragraph (b) through paragraph (g) as paragraphs (c) through (h).

Dated: October 8, 2019.
Elizabeth Voyatzis,
Deputy General Counsel, National Endowment for the Humanities.

[FR Doc. 2019-22374 Filed 11-1-19; 8:45 am]

BILLING CODE 7536-01-P